DEPARTMENT OF ENERGY

Federal Energy Regulatory Commission

Combined Notice of Filings No. 2

Take notice that the Commission has received the following Natural Gas Pipeline Rate and Refund Report filings:

Filings Instituting Proceedings

Docket Numbers: RP11-2518-000.

Applicants: CenterPoint Energy Gas Transmission Company, LLC.

Description: CenterPoint Energy Gas Transmission Company, LLC submits tariff filing per 154.204: CEGT LLC—Negotiated Rate—September 2011 to be effective 9/1/2011.

Filed Date: 08/31/2011.

Accession Number: 20110831-5108.

Comment Date: 5 p.m. Eastern Time on Monday, September 12, 2011.

Docket Numbers: RP11-2519-000.

Applicants: Colorado Interstate Gas Company.

Description: Colorado Interstate Gas Company submits tariff filing per 154.203: Spruce Hill Compliance Filing to be effective 10/1/2011.

Filed Date: 08/31/2011.

Accession Number: 20110831-5112.

Comment Date: 5 p.m. Eastern Time on Monday, September 12, 2011.

Docket Numbers: RP11-2520-000.

Applicants: TWP Pipeline LLC.

Description: TWP Pipeline LLC submits tariff filing per 154.402: TWP Pipeline LLC ACA Filing to be effective 10/1/2011.

Filed Date: 08/31/2011.

Accession Number: 20110831-5124.

Comment Date: 5 p.m. Eastern Time on Monday, September 12, 2011.

Docket Numbers: RP11-2521-000.

Applicants: Dominion Transmission, Inc.

Description: Dominion Transmission, Inc. submits tariff filing per 154.402: DTI—2011 Annual Charge Adjustment to be effective 10/1/2011.

Filed Date: 08/31/2011.

Accession Number: 20110831-5127.

Comment Date: 5 p.m. Eastern Time on Monday, September 12, 2011.

Docket Numbers: RP11-2522-000.

Applicants: Central New York Oil and Gas, LLC.

Description: Central New York Oil and Gas, LLC submits tariff filing per 154.203: CNYOG FWS Tariff Filing in Compliance With Docket No. CP10-194-000 to be effective 10/1/2011.

Filed Date: 08/31/2011.

Accession Number: 20110831-5131.

Comment Date: 5 p.m. Eastern Time on Monday, September 12, 2011.

Docket Numbers: RP11-2523-000.

Applicants: Dominion South Pipeline Company, LP.

Description: Dominion South Pipeline Company, LP submits tariff filing per 154.402: DSP—2011 Annual Charge Adjustment to be effective 10/1/2011.

Filed Date: 08/31/2011.

Accession Number: 20110831-5132.

Comment Date: 5 p.m. Eastern Time on Monday, September 12, 2011.

Docket Numbers: RP11-2524-000.

Applicants: Gulf South Pipeline Company, LP.

Description: Gulf South Pipeline Company, LP submits tariff filing per 154.204: Southcross Non-conforming Agreement Filing to be effective 9/1/2011.

Filed Date: 08/31/2011.

Accession Number: 20110831-5150.

Comment Date: 5 p.m. Eastern Time on Monday, September 12, 2011.

Docket Numbers: RP11-2525-000.

Applicants: Columbia Gulf Transmission Company.

Description: Columbia Gulf Transmission Company's Annual Cash-Out Report.

Filed Date: 08/31/2011.

Accession Number: 20110831-5166.

Comment Date: 5 p.m. Eastern Time on Monday, September 12, 2011.

Docket Numbers: RP11-2526-000.

Applicants: Texas Eastern Transmission, LP.

Description: Texas Eastern Transmission, LP submits tariff filing per 154.402: TETLP ACA 2011 FILING to be effective 10/1/2011.

Filed Date: 08/31/2011.

Accession Number: 20110831-5172.

Comment Date: 5 p.m. Eastern Time on Monday, September 12, 2011.

Docket Numbers: RP11-2527-000.

Applicants: Algonquin Gas Transmission, LLC.

Description: Algonquin Gas Transmission, LLC submits tariff filing per 154.402: AGT ACA 2011 FILING to be effective 10/1/2011.

Filed Date: 08/31/2011.

Accession Number: 20110831-5174.

Comment Date: 5 p.m. Eastern Time on Monday, September 12, 2011.

Docket Numbers: RP11-2528-000.

Applicants: Maritimes & Northeast Pipeline, LLC.

Description: Maritimes & Northeast Pipeline, LLC submits tariff filing per 154.402: MNUS ACA 2011 FILING to be effective 10/1/2011.

Filed Date: 08/31/2011.

Accession Number: 20110831-5175.

Comment Date: 5 p.m. Eastern Time on Monday, September 12, 2011.

Docket Numbers: RP11-2529-000.

Applicants: National Fuel Gas Supply Corporation.

Description: National Fuel Gas Supply Corporation submits tariff filing per 154.204: Beacon—Non-conforming (Line N) to be effective 9/22/2011.

Filed Date: 08/31/2011.

Accession Number: 20110831-5177.

Comment Date: 5 p.m. Eastern Time on Monday, September 12, 2011.

Docket Numbers: RP11-2530-000.

Applicants: Central New York Oil and Gas, LLC.

Description: Central New York Oil and Gas, LLC submits tariff filing per 154.204: CNYOG Substitute Pro Forma Firm Wheeling Service Agreement to be effective 10/1/2011.

Filed Date: 08/31/2011.

Accession Number: 20110831-5178.

Comment Date: 5 p.m. Eastern Time on Monday, September 12, 2011.

Docket Numbers: RP11-2531-000.

Applicants: Stingray Pipeline Company, LLC.

Description: Stingray Pipeline Company, LLC submits tariff filing per 154.204: Annual Charge Adjustment and Event Tracker filing to be effective 10/1/2011.

Filed Date: 08/31/2011.

Accession Number: 20110831-5188.

Comment Date: 5 p.m. Eastern Time on Monday, September 12, 2011.

Docket Numbers: RP11-2532-000.

Applicants: Colorado Interstate Gas Company.

Description: Colorado Interstate Gas Company submits tariff filing per 154.403(d)(2): Quarterly FL&U 10/1/11 to be effective 10/1/2011.

Filed Date: 08/31/2011.

Accession Number: 20110831-5190.

Comment Date: 5 p.m. Eastern Time on Monday, September 12, 2011.

Docket Numbers: RP11-2533-000.

Applicants: MIGC LLC.

Description: MIGC LLC submits tariff filing per 154.402: MIGC LLC 2011 ACA Filing to be effective 10/1/2011.

Filed Date: 09/01/2011.

Accession Number: 20110901-5000.

Comment Date: 5 p.m. Eastern Time on Tuesday, September 13, 2011.

Docket Numbers: RP11-2534-000.

Applicants: Gulf South Pipeline Company, LP.

Description: Gulf South Pipeline Company, LP submits tariff filing per 154.204: Enbridge 34685 to Central Crude Capacity Release Negotiated Rate Agreement to be effective 9/1/2011.

Filed Date: 09/01/2011.

Accession Number: 20110901-5060.

Comment Date: 5 p.m. Eastern Time on Tuesday, September 13, 2011.

Docket Numbers: RP11-2535-000.

Applicants: Gulf Crossing Pipeline Company LLC.

Description: Gulf Crossing Pipeline Company LLC submits tariff filing per 154.204: BP K37-8 Amendment to Negotiated Rate Agreement Filing to be effective 9/1/2011.

Filed Date: 09/01/2011.

Accession Number: 20110901-5065.

Comment Date: 5 p.m. Eastern Time on Tuesday, September 13, 2011.

Docket Numbers: RP11-2536-000.

Applicants: Panther Interstate Pipeline Energy, LLC.

Description: Panther Interstate Pipeline Energy, LLC submits tariff filing per 154.402: Panther 2011 ACA Filing to be effective 10/1/2011.

Filed Date: 09/01/2011.

Accession Number: 20110901-5068.

Comment Date: 5 p.m. Eastern Time on Tuesday, September 13, 2011.

Docket Numbers: RP11-2537-000.

Applicants: American Midstream (AlaTenn), LLC.

Description: American Midstream (AlaTenn), LLC submits tariff filing per 154.402: AlaTenn ACA Filing to be effective 10/1/2011.

Filed Date: 09/01/2011.

Accession Number: 20110901-5082.

Comment Date: 5 p.m. Eastern Time on Tuesday, September 13, 2011.

Docket Numbers: RP11-2538-000.

Applicants: American Midstream (Midla), LLC.

Description: American Midstream (Midla), LLC submits tariff filing per 154.402: Midla ACA Filing to be effective 10/1/2011.

Filed Date: 09/01/2011.

Accession Number: 20110901-5083.

Comment Date: 5 p.m. Eastern Time on Tuesday, September 13, 2011.

Docket Numbers: RP11-2539-000.

Applicants: MarkWest Pioneer, LLC.

Description: MarkWest Pioneer, LLC submits tariff filing per 154.403(d)(2): MarkWest Pioneer—Quarterly FRP Filing to be effective 10/1/2011.

Filed Date: 09/01/2011.

Accession Number: 20110901-5086.

Comment Date: 5 p.m. Eastern Time on Tuesday, September 13, 2011.

Docket Numbers: RP11-2540-000.

Applicants: Big Sandy Pipeline, LLC.

Description: Big Sandy Pipeline, LLC submits tariff filing per 154.204: Negotiated Rate Agreement—Nytis Exploration to be effective 9/1/2011.

Filed Date: 09/01/2011.

Accession Number: 20110901-5093.

Comment Date: 5 p.m. Eastern Time on Tuesday, September 13, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2450-001.

Applicants: WestGas InterState, Inc.

Description: WestGas InterState, Inc. submits tariff filing per 154.205(b): 20110831 WGI ACA Refile to be effective 10/1/2011.

Filed Date: 08/31/2011.

Accession Number: 20110831-5133.

Comment Date: 5 p.m. Eastern Time on Monday, September 12, 2011.

Docket Numbers: RP10-1403-001.

Applicants: Sabine Pipe Line LLC.

Description: Sabine Pipe Line LLC submits tariff filing per 154.203: Compliance with NAESB v1.8 and v1.9 to be effective 10/1/2011.

Filed Date: 08/31/2011.

Accession Number: 20110831-5157.

Comment Date: 5 p.m. Eastern Time on Monday, September 12, 2011.

Docket Numbers: RP11-2404-001.

Applicants: KO Transmission Company.

Description: KO Transmission Company submits tariff filing per 154.205(b): Amendment to 2011 ACA Filing to be effective 10/1/2011.

Filed Date: 08/31/2011.

Accession Number: 20110831-5171.

Comment Date: 5 p.m. Eastern Time on Monday, September 12, 2011.

Docket Numbers: RP11-2444-001.

Applicants: Hardy Storage Company, LLC.

Description: Hardy Storage Company, LLC submits tariff filing per 154.205(b): ACA Errata 2011 to be effective 10/1/2011.

Filed Date: 08/31/2011.

Accession Number: 20110831-5183.

Comment Date: 5 p.m. Eastern Time on Monday, September 12, 2011.

Docket Numbers: RP11-2481-001.

Applicants: Dauphin Island Gathering Partners.

Description: Dauphin Island Gathering Partners submits tariff filing per 154.205(b): ACA 2011 Revision to be effective 10/1/2011.

Filed Date: 09/01/2011.

Accession Number: 20110901-5003.

Comment Date: 5 p.m. Eastern Time on Tuesday, September 13, 2011.

Docket Numbers: RP11-2482-001.

Applicants: Cimarron River Pipeline, LLC.

Description: Cimarron River Pipeline, LLC submits tariff filing per 154.205(b): ACA 2011 Amended to be effective 10/1/2011.

Filed Date: 09/01/2011.

Accession Number: 20110901-5005.

Comment Date: 5 p.m. Eastern Time on Tuesday, September 13, 2011.

Docket Numbers: RP11-1964-002.

Applicants: Questar Pipeline Company.

Description: Questar Pipeline Company submits tariff filing per 154.203: RP11-1964-001 Compliance Filing to be effective 5/1/2011.

Filed Date: 09/01/2011.

Accession Number: 20110901-5069.

Comment Date: 5 p.m. Eastern Time on Tuesday, September 13, 2011.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Nathaniel J. Davis, Sr.,
Deputy Secretary.

[FR Doc. 2011-23081 Filed 9-8-11; 8:45 am]

BILLING CODE 6717-01-P